DEPARTMENT OF AGRICULTURE

Forest Service

Ketchikan Misty Fiords Ranger District; Tongass National Forest; Alaska; Traitors Cove Timber Sale Environmental Impact Statement

AGENCY: Forest Service, USDA.

ACTION: Notice of intent to prepare an Environmental Impact Statement.

SUMMARY: The U.S. Department of Agriculture, Forest Service will prepare an Environmental Impact Statement (EIS) to harvest timber in the Traitors Cove area of northern Revillagigedo Island on the Ketchikan Misty Fiords Ranger District, Tongass National Forest. This environmental impact statement combines the project areas from three formerly proposed timber harvest projects. These projects were scoped under the Francis Cove Timber Sale, SW Neets Timber Sale, and Rockfish Timber Sale projects. A determination was made that there was a possibility of significant cumulative effects on these project areas and therefore a decision was made to prepare an EIS. The proposed action would harvest about 16 million board feet (MMBF) of timber on approximately 1000 acres. The project would construct about eight miles of road.

DATES: Comments concerning the scope of the analysis must be received within 30 days of the date of this notice. The Draft Environmental Impact Statement is expected to be published November 2005 and will begin a 45-day public comment period. The Final Environmental Impact Statement and Record of Decision are expected in April 2006.

ADDRESSES: You may comment on the project in the following ways: Send or hand deliver written comments to the Ketchikan Misty Fiords Ranger District, Attn: Traitors Cove EIS, Tongass National Forest, 3031 Tongass Avenue, Ketchikan, AK 99901; telephone (907) 225-2148. The FAX number is (907) 225-8738. Send e-mail comments to: comments-alaska-tongass-ketchikan-mistyfiord@fs.fed.us with Traitors Cove EIS on the subject line. Include your name, address, and organization name if you are commenting as a representative.

FOR FURTHER INFORMATION CONTACT: For further information, mail correspondence to Lynn Kolund, District Ranger, Ketchikan Misty Fiords Ranger District, Tongass National Forest, 3031 Tongass Avenue, Ketchikan, AK 99901, telephone (907) 228-4100 or Jeannie Blackmore, Interdisciplinary Team Leader, Ketchikan Misty Fiords Ranger District, Tongass National Forest, 3031 Tongass Avenue, Ketchikan, AK 99901, telephone (907) 228-4120.

SUPPLEMENTARY INFORMATION:

Purpose and Need for Action

The purpose and need for the proposed action responds to the goals and objectives identified by the Tongass Land Management Plan, as amended, and helps move the area toward the desired conditions as described in the forest plan. The Forest Supervisor will decide whether or not to harvest timber from the Traitors Cove Timber Sale area, and if so, how this timber will be harvested. The decision will be based on the information that is disclosed in the environmental impact statement. The responsible official will consider comments, responses, the disclosure of environmental consequences, and applicable laws, regulations, and policies in making the decision and will state that rationale in the Record of Decision.

The Forest Plan goals and objectives applicable to the Traitors Cove Project Area include:

1. Maintain and promote wood production from suitable timber lands, providing a suitable supply of wood to meet society's needs;

2. Seek to provide a stable supply of timber from the Tongass National Forest which meets the annual planning-cycle market demand, while managing these lands for sustained long-term yields and is consistent with sound multiple use and sustained yield objectives: and

3. Provide a diversity of opportunities for resource uses that contribute to the local and regional economies of Southeast Alaska to support a wide range of natural-resource employment opportunities within Southeast Alaska's communities.

The proposed action is to harvest approximately 1000 acres in 54 harvest units using shovel, cable, and/or helicopter logging systems and implementing four silvicultural prescriptions including, clearcut, clearcut with reserve, two age, and uneven age management. The proposed action would harvest approximately 16 MMBF of timber volume. Approximately eight miles of road would be constructed. Logs would be barged from three existing marine access facilities located at Margaret Bay, SW Neets, and Fire Cove.

Land use designations (LUDs) identified in the project area are Modified Landscape and Timber Production; both of these LUDs allow timber harvest. None of the proposed timber harvest units or roads are within roadless areas. The Traitors Cove Project Area includes two small old-growth habitat reserves (OGRs) as designated the Forest Plan. They are located in Visual Comparison Unit (VCU) 7400 and VCU 7390. There are no plans for modification of either of these small OGRs.

Public Participation

Public participation has been a integral component of the study process and will continue to be especially important at several points during the analysis. The Forest Service will be seeking information, comments, and assistance from Tribal Governments, Federal, State, and local agencies, individuals and organizations that may be interested in, or affected by, the proposed activities. Scoping initially occurred on the Rockfish, SW Neets, and Francis Cove EAs in April 2004 and an updated scoping letter was mailed in November 2004.

In addition to this Notice of Intent, legal notices will be placed in the Juneau Empire and the Ketchikan Daily News. The Juneau Empire is the official newspaper of record for this project. Written scoping comments are being solicited through a scoping letter that was mailed to interested individuals and agencies on March 28, 2005. The scoping process includes: (1) Identification of potential issues; (2) identification of issues to be analyzed in depth; and (3) elimination of non-significant issues or those which have been covered by a previous environmental review. Based on results of scoping and the resource capabilities within the project area, alternatives including a “no-action” alternative will be developed for the Draft Environmental Impact Statement. Subsistence hearings, as provided for in Title VIII, Section 810 of the Alaska National Interest Lands Conservation Act (ANILCA), will be conducted, if necessary, during the comment period on the Draft Environmental Impact Statement. A Draft Environmental Impact Statement will be prepared for comment. The comment period on the Draft Environmental Impact Statement will be 45 days from the date the Environmental Protection Agency publishes the notice of availability in the Federal Register.

The Forest Service believes, at this early stage, it is important to give reviewers notice of several court rulings related to public participation in the environmental review process. First, reviewers of Draft Environmental Impact Statement must structure their participation in the environmental review of the proposal so that it is meaningful and alerts an agency to the reviewer's position and contentions, (Vermont Yankee Nuclear Power Corp. v. NRDC, 435 U.S. 519,553 (1978). Also, environmental objections that could be raised at the Draft Environmental Impact Statement stage but that are not raised until after completion of the Final Environmental Impact Statement may be waived or dismissed by the courts, City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the Final Environmental Impact Statement.

To assist the Forest Service in identifying and considering issues and concerns on the proposed action, comments on the Draft Environmental Impact Statement should be as specific as possible. It is also helpful if comments refer to specific pages or chapters of the Draft Environmental Impact Statement. Comments may also address the adequacy of the Draft Environmental Impact Statement or the merits of the alternatives formulated and discussed in the statement. Reviewers may wish to refer to the Council on Environmental Quality Regulations for implementing the procedural provisions of the National Environmental Policy Act at 40 CFR 1503.3 in addressing these points. Comments received, including the names and addresses of those who comment, will be considered part of the public record on this proposal and will be available for public inspection.

Comments submitted anonymously will be accepted and considered; however, those who submit anonymous comments will not have standing to appeal the subsequent decision under 36 CFR Parts 215 or 217. Additionally, pursuant to 7 CFR 1.27(d), any person may request the agency to withhold submission from the public record by showing how the Freedom of Information Act (FOIA) permits such confidentiality. Requesters should be aware that, under FOIA, confidentiality may be granted in only very limited circumstances, such as to protect trade secrets. The Forest Service will inform the requester of the agency's decision regarding the request for confidentiality, and where the request is denied, the agency will return the submission and notify the requester that the comments may be resubmitted with or without name and address within seven days.

Preliminary Issues

Previously identified issues for analysis in the project area include potential: (1) Cumulative effects to wildlife, (2) Effects to traditional and cultural hunting and gathering areas, (3) Road building costs, and (4) Timber sale economics.

Permits or Licenses Required

Permits required for implementation include the following:

1. U.S. Army Corp of Engineers

—Approval of discharge of dredge or fill material into the waters for the United States under Section 404 of the Clean Water Act;

—Approval of the construction of structures or work in navigable waters of the United States under Section 10 of the Rivers and Harbor Act of 1899;

2. Environmental Protection Agency

—General National Pollutant Discharge Elimination System for Log Transfer Facilities in Alaska;

—Review Spill Prevention Control and Countermeasure Plan;

3. State of Alaska, Department of Natural Resources

—Tideland Permit and Lease or Easement;

—Certification of Compliance with Alaska Water Quality Standards (401 Certification) Chapter 20;

4. Office of Project Management & Permitting (DNR).

—Coastal Zone Consistency Determination concurrence.

Responsible Official

Forrest Cole, Forest Supervisor, Tongass National Forest, Federal Building, 648 Mission Street, Ketchikan, Alaska 99901.

Nature of Decision To Be Made

The Forest Supervisor will decide:

1. The amount, location and method of timber harvest and vegetation treatment.

2. Whether there may be a significant restriction on subsistence uses .

The responsible official will consider the comments, responses, disclosure of environmental consequences, and applicable laws, regulations and policies in making the decision and state his rationale in the Record of Decision.

(Authority: 40 CFR 1501.7 and 1508.22; Forest Service Handbook 1909.15, Section21)
Dated: March 24, 2005.
Olleke Rappe-Daniels,
Deputy Forest Supervisor.

[FR Doc. 05-6359 Filed 3-31-05; 8:45 am]

BILLING CODE 3410-11-M